DEPARTMENT OF AGRICULTURE

Agricultural Marketing Service

7 CFR Part 1250

[Docket No. PY-05-005]

Section 610 Review; Egg Research and Promotion Program

AGENCY: Agricultural Marketing Service, USDA.

ACTION: Confirmation of regulations.

SUMMARY: This document summarizes the results of an Agricultural Marketing Service's (AMS) review of the Egg Research and Promotion Program (conducted under the Egg Research and Promotion Order), under the criteria contained in Section 610 of the Regulatory Flexibility Act (RFA). Based upon its review, AMS has determined that the Order should be continued without change.

ADDRESSES: Interested persons may obtain a copy of the review. Requests for copies should be sent to Angela C. Snyder, Chief, Research and Promotion, Office of the Deputy Administrator, Poultry Programs, Agricultural Marketing Service, U.S. Department of Agriculture, 1400 Independence Avenue, SW.; STOP 0256, Room 3932-South; Washington, DC 20250-0256; (202) 720-0623; fax (202) 720-5631; e-mail: angie.snyder@usda.gov.

FOR FURTHER INFORMATION CONTACT: Angela C. Snyder, Chief, Research and Promotion, Office of the Deputy Administrator, Poultry Programs, Agricultural Marketing Service, U.S. Department of Agriculture, 1400 Independence Avenue, SW.; STOP 0256, Room 3932-South; Washington, DC 20250-0256; (202) 720-0623; fax (202) 720-5631; e-mail: angie.snyder@usda.gov.

SUPPLEMENTARY INFORMATION: The Egg Research and Consumer Information Act of 1974, as amended (7 U.S.C. 1201 et seq.), authorized the Egg Research and Promotion Order (7 CFR part 1250), which is industry-operated and funded with oversight by USDA. The Egg Research and Promotion Order's objective is to establish, finance, and carry out promotion, research, and education programs to improve, maintain, and develop markets for eggs, egg products, spent fowl, and products of spent fowl.

The Program became effective on August 1, 1976, when the Egg Research and Promotion Order (7 CFR part 1250) was implemented. In accordance with the legislation, the American Egg Board was established, and assessments at 5 cents per 30-dozen case of commercial eggs soon began to be levied. Since that time, assessments have fluctuated from 2½ cents per 30-dozen case of eggs to the current 10 cents per 30-dozen case approved by producer referendum in 1994.

Assessments collected under this program are used to carry out promotion, research, and education programs to improve, maintain, and develop markets for eggs, egg products, spent fowl, and products of spent fowl.

The Program is administered by the American Egg Board, which is composed of egg producers and egg producer representatives. Each of the 18 members and their specific alternates are appointed by the Secretary of Agriculture from nominations submitted by certified producer organizations. The Secretary annually appoints half of the Board, nine members and nine alternates, for 2-year terms.

AMS published in the Federal Register (64 FR 8014) its plan to review certain regulations, including the Egg Research and Promotion Order, under the criteria contained in section 610 of the Regulatory Flexibility Act (5 U.S.C. 601-612). An updated plan was published in the Federal Register on August 14, 2003 (68 FR 48573).

A notice of review and request for written comments on the Order was published in the February 6, 2006, issue of the Federal Register (71 FR 6021). No comments were received.

The review was undertaken to determine whether the Order should be continued without change, amended, or rescinded (consistent with the objectives of the Egg Research and Consumer Information Act of 1974) to minimize the impacts on small entities. In conducting this review, AMD considered the following factors: (1) The continued need for the Order; (2) the nature of complaints or comments received from the public concerning the Order; (3) the complexity of the Order; (4) the extent to which the Order overlaps, duplicates, or conflicts with other Federal rules, and, to the extent feasible, with State and local governmental rules; and (5) the length of time since the Order has been evaluated or the degree to which technology, economic conditions, or other factors have changed in the area affected by the Order.

Currently, there are approximately 260 producers covered under the Order. AMS provides Federal oversight of the egg research and promotion program. The Order is not unduly complex, and AMS has not identified regulations that duplicate, overlap, or conflict with the Order. Over the years, regulation changes have been made to address industry operation changes and to improve program administration. The goal of these evaluations is to assure that the Order and the regulations implemented under it fit the needs of the industry and are consistent with the Act. Based upon the review, AMS has determined that the Order should be continued without change. AMS plans to continue working with the egg industry in maintaining an effective program.

Dated: December 19, 2006.
Lloyd C. Day,
Administrator, Agricultural Marketing Service.

[FR Doc. E6-22039 Filed 12-22-06; 8:45 am]

BILLING CODE 3410-02-P